DEPARTMENT OF THE INTERIOR

Fish and Wildlife Service

Reopening of Public Comment Period for the Agency Draft Recovery Plan for the Endangered Catesbaea melanocarpa

AGENCY: Fish and Wildlife Service, Interior.

ACTION: Notice of reopening of public comment period.

SUMMARY: We, the Fish and Wildlife Service, announce that we are reopening the comment period for the Technical/Agency Draft Recovery Plan for Catesbaea melanocarpa (no common name) to solicit comment on revised “Recovery Goal” and “Recovery Criteria” sections. The revised recovery goal of the draft recovery plan is to protect and stabilize existing populations and associated habitat of Catesbaea melanocarpa and ultimately remove the species from the List of Endangered and Threatened Wildlife and Plants. The revised recovery criteria establish criteria for both downlisting and delisting. We solicit review and written comments from the public on these sections of the recovery plan.

DATES: In order to be considered, we must receive comments on the technical agency draft recovery plan on or before May 19, 2005.

ADDRESSES: If you wish to review this draft recovery plan, you may obtain a copy by contacting the Boquerón Field Office, U.S. Fish and Wildlife Service, P.O. Box 491, Boquerón, Puerto Rico 00622 (telephone 787/851-7297), or by visiting our recovery plan Web site at http://endangered.fws.gov/recovery/index.html#plans. If you wish to comment, you may submit your comments by either of three methods:

1. You may submit written comments and materials to the Field Supervisor, at the above address.

2. You may hand-deliver written comments to our Boquerón Field Office, at the above address, or fax your comments to (787) 851-7440.

3. You may send comments by electronic mail to Marelisa Rivera from the Boquerón Field Office at marelisa_rivera@fws.gov.

Comments and materials received are available for public inspection on request, by appointment, during normal business hours at the above address.

FOR FURTHER INFORMATION CONTACT: Ms. Marelisa Rivera (see ADDRESSES section) (Telephone 787-851-7297, ext. 231).

SUPPLEMENTARY INFORMATION:

Background

Catesbaea melanocarpa is an extremely rare small spiny shrub that is known from Puerto Rico (PR), St. Croix in the U.S. Virgin Islands, Barbuda, Antigua, and Guadalupe. It occurs in the subtropical dry forest life zone, and it is currently known in the United States from only one individual in Peñones de Melones in Cabo Rojo, Puerto Rico, and approximately 100 individuals at one location in St. Croix. The species is threatened by the limited number of individuals and distribution, habitat destruction or modification for residential and tourist development, fire, and catastrophic natural events such as hurricanes. We listed Catesbaea melanocarpa as endangered on March 17, 1999 (64 FR 13116).

Restoring an endangered or threatened animal or plant to the point where it is again a secure, self-sustaining member of its ecosystem is a primary goal of the endangered species program. To help guide the recovery effort, we prepare recovery plans for most listed species. Recovery plans describe actions considered necessary for conservation of the species, establish criteria for downlisting or delisting, and estimate time and cost for implementing recovery measures.

Previous Federal Action

On September 27, 2004, we published in the Federal Register a notice of availability of the Technical/Agency Draft Recovery Plan for Catesbaea melanocarpa for review and comment (69 FR 57712). The public review and comment period ended on November 26, 2004. We subsequently have revised the “Recovery Goal” and “Recovery Criteria” sections to address the delisting of the species. Accordingly, we are reopening the comment period to solicit comments on these revised sections.

Recovery Goal

The Technical/Agency Draft Recovery Plan for Catesbaea melanocarpa included an interim goal of protecting and enhancing existing populations to the point that downlisting to threatened was warranted. The reason we included only an interim goal was that the limited information available on the current number of individuals throughout the species range and the limited knowledge on biology, habitat requirements, and genetic information precluded us from coming up with well-informed criteria to support a long-term goal. We have revised the recovery goal of the draft recovery plan to protect and stabilize existing populations and associated habitat, and ultimately remove the species from the List of Endangered and Threatened Wildlife and Plants. Although the amount of information available for this species has not changed, we believe that we can still identify the ultimate goal as the delisting of the species due to recovery, while acknowledging that we will need additional information to support and refine objective and measurable criteria for delisting.

Recovery Criteria

The Technical/Agency Draft Recovery Plan for Catesbaea melanocarpa identified four interim priority tasks that would lead us to obtain information essential for the development of more objective, measurable criteria that would need to be met before considering the downlisting of the species. We have revaluated the downlisting criteria and determined that objective and measurable criteria could be developed at this time and have revised the draft plan accordingly. Further, we have added delisting criteria to reflect the revised recovery goal. The revised and added criteria are as follows.

Downlisting of the species from endangered to threatened status will be considered when: (1) The habitat known to support the two extant populations (St. Croix and Peñones de Melones) is enhanced and protected through landowner conservation agreements or easements; (2) extant populations are enhanced through the planting of additional propagated individuals to augment the number of adult individuals to at least 250; (3) at least one population within each of the following previously occupied habitat is found and/or established: Guánica Commonwealth Forest (PR), Susúa Commonwealth Forest (PR), Barbuda, Antigua, and Guadalupe; and (4) research is conducted on key biological and genetic issues, including effective propagation techniques, and number of individuals within a population and number of populations needed for the establishment of self-sustaining populations and a viable overall population.

Catesbaea melanocarpa will be considered for delisting when: (1) A number of viable populations (to be determined following the appropriate studies) are protected by long term conservation strategies; and (2) viable populations (the number of which should be determined following the appropriate studies) are established in unoccupied but suitable habitat at Sandy Point National Wildlife Refuge (USVI), Cabo Rojo National Wildlife Refuge (PR), La Tinaja in Sierra Bermeja (Laguna Cartagena National Wildlife Refuge, PR), and any other identified suitable conservation area within the dry forest zone.

Because we lack critical biological and genetic information, we can not determine specific numbers for the delisting criteria at this time. However, we have identified a recovery task that is necessary for providing such information and will refine the recovery criteria when this information is available:

8. Refine recovery criteria. As additional information on the biology, ecology, propagation, and management of Catesbaea melanocarpa is accumulated, it will be necessary to better define recovery criteria.

81. Determine number of individuals and self-sustaining populations necessary to ensure species survival and recovery. Environmental and reproductive studies, together with the relative success of population protection measures, will allow for more precise and realistic recovery criteria to be established.

82. Determine what additional actions, if any, are necessary to achieve recovery criteria. Any action(s) not included in this recovery plan that are recognized during the recovery process as being necessary or important for the conservation and/or recovery of this species should be incorporated into the plan.

This task was included in the first draft of the recovery plan as Task 7 and sub-tasks 71 and 72.

Public Comments Solicited

We solicit written comments on the “Recovery Goal” and “Recovery Criteria” sections of the recovery plan as discussed above. We will consider all comments regarding recovery goal and criteria received by the date specified in the DATES section (above) prior to final approval of the recovery plan.

Our practice is to make all comments, including names and home addresses of respondents, available for public review during regular business hours. Respondents may request that we withhold their home addresses, which we will honor to the extent allowable by law. There may also be circumstances in which we would withhold a respondent's identity, as allowable by law. If you wish for us to withhold your name and/or address, you must state this prominently at the beginning of your comments. However, we will not consider anonymous comments. To the extent consistent with applicable law, we will make all submissions from organizations or businesses, and from individuals identifying themselves as representatives or officials of organizations or businesses, available for public inspection in their entirety.

Author

The primary author of this notice is Marelisa Rivera (see ADDRESS section).

Authority

The authority for this action is section 4(f) of the Endangered Species Act, 16 U.S.C. 1533 (f).

Dated: March 18, 2005.
Cynthia K. Dohner,
Acting Regional Director, Southeast Region.

[FR Doc. 05-7787 Filed 4-18-05; 8:45 am]

BILLING CODE 4310-55-P